FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 13, 2016.

A. Federal Reserve Bank of St. Louis (David L. Hubbard, Senior Manager) P.O. Box 442, St. Louis, Missouri 63166-2034. Comments can also be sent electronically to Comments.applications@stls.frb.org:

1. Gaylon M. Lawrence, Jr., Memphis, Tennessee, to retain shares of First Malden Bancshares, Inc., Malden, Missouri, and thereby indirectly retain control of First Missouri Bank of SEMO, Kennett, Missouri.

2. Gaylon M. Lawrence, Jr., Memphis, Tennessee, to retain shares of FMS Bancorp, Inc., Poplar Bluff, Missouri, and thereby indirectly retain shares of First Missouri State Bank, Poplar Bluff, Missouri and First Missouri State Bank of Cape County, Cape Girardeau, Missouri.

B. Federal Reserve Bank of Dallas (Robert L. Triplett III, Senior Vice President) 2200 North Pearl Street, Dallas, Texas 75201-2272:

1. Alex Dan Knox, individually and single member of Danox, LLC, which is the general partner of Lavanco Energy, LTD and ZSS Knox, LTD, all located in San Angelo, Texas; and collectively, a group acting in concert, to acquire shares of Sundown Bankshares, Inc., and therefore, indirectly acquire, Sundown State Bank, all in Sundown, Texas.

Board of Governors of the Federal Reserve System, August 24, 2016.
Michele T. Fennell,
Assistant Secretary of the Board.

[FR Doc. 2016-20652 Filed 8-26-16; 8:45 am]

BILLING CODE 6210-01-P